DEPARTMENT OF THE TREASURY

Agency Information Collection Activities; Submission for OMB Review; Comment Request; Internal Revenue Service (IRS) Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before June 3, 2024 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Melody Braswell by emailing PRA@treasury.gov, calling (202) 622-1035, or viewing the entire information collection request at www.reginfo.gov.

SUPPLEMENTARY INFORMATION:

Internal Revenue Service (IRS)

Title: Consent for Disclosure of Non-Tax IRS Records Protected under the Privacy Act and IRS Request for Individual Access to Non-Tax Records under the Privacy Act.

OMB Number: 1545-NEW.

Form Numbers: 15293 and 15603.

Abstract: Form 15293 is used as an option to consent and approve disclosure of your non-tax IRS records. This form may be used by the parent consenting to and authorizing disclosure of the records of a minor or the legal guardian consenting to and authorizing disclosures of the records of an incompetent. Form 15603 is used to request access to non-tax records from a Privacy Act System of Records. This form may also be used by the parent seeking access to the records of a minor or the legal guardian seeking access to the records of an incompetent.

Current Actions: This form is being submitted for OMB approval.

Type of Review: New collection.

Affected Public: Individuals.

Estimated Number of Respondents: 600.

Estimated Time per Response: 15 minutes.

Estimated Total Annual Burden Hours: 150 hours.

Authority: 44 U.S.C. 3501 et seq.

Melody Braswell,
Treasury PRA Clearance Officer.

[FR Doc. 2024-09550 Filed 5-1-24; 8:45 am]

BILLING CODE 4810-01-P